DEPARTMENT OF VETERANS AFFAIRS

[OMB Control No. 2900-0042]

Agency Information Collection Activities Under OMB Review

AGENCY: Board of Veterans' Appeals, Department of Veterans Affairs.

ACTION: Notice.

SUMMARY: In compliance with the Paperwork Reduction Act (PRA) of 1995 (44 U.S.C., 3501 et seq.), this notice announces that the Board of Veterans' Appeals (BVA), Department of Veterans Affairs, has submitted the collection of information abstracted below to the Office of Management and Budget (OMB) for review and comment. The PRA submission describes the nature of the information collection and its expected cost and burden; it includes the actual data collection instrument.

DATES: Comments must be submitted on or before October 10, 2000.

For Further Information or a Copy of the Submission Contact: Denise McLamb, Information Management Service (045A4), Department of Veterans Affairs, 810 Vermont Avenue, NW, Washington, DC 20420, (202) 273-8030 or FAX (202) 273-5981. Please refer to “OMB Control No. 2900-0042.”

SUPPLEMENTARY INFORMATION: Title: Statement of Accredited Representative in Appealed Case, VA Form 646.

OMB Control Number: 2900-0042.

Type of Review: Reinstatement, without change, for a previously approved collection for which approval has expired.

Abstract: The form is used by accredited veterans' service organization representatives to present their argument to the Board on behalf of appellants of whom the service organizations represent. It facilitates appellants' exercise of their representation rights. The legal and factual arguments presented on the form are considered and addressed by the Board in making decisions on appeals. The form is also designed to solicit enough identifying data to enable VA to identify the particular case to which the statement pertains so that it may be properly considered and filed when received by VA. It aids the Board in assuring that rights to representation have been honored by establishing that the record has been made available to the representative for review and presentation of argument.

An agency may not conduct or sponsor, and a person is not required to respond to a collection of information unless it displays a currently valid OMB control number. The Federal Register Notice with a 60-day comment period soliciting comments on this collection of information was published on May 4, 2000 at page 25977.

Affected Public: Not-for-profit institutions.

Estimated Annual Burden: 32,895 hours.

Estimated Average Burden Per Respondent: 60 minutes.

Frequency of Response: On occasion.

Estimated Number of Respondents: 32,895.

Send comments and recommendations concerning any aspect of the information collection to VA's OMB Desk Officer, Allison Eydt, OMB Human Resources and Housing Branch, New Executive Office Building, Room 10235, Washington, DC 20503 (202) 395-4650. Please refer to “OMB Control No. 2900-0042” in any correspondence.

Dated: August 7, 2000.
By direction of the Acting Secretary.
Donald L. Neilson,
Director, Information Management Service.

[FR Doc. 00-22895 Filed 9-6-00; 8:45 am]

BILLING CODE 8320-01-P